ENVIRONMENTAL PROTECTION AGENCY

[EPA-HQ-OPPT-2013-0715; FRL 9914-29-OEI]

Information Collection Request Submitted to OMB for Review and Approval; Comment Request; Survey of the Public and Commercial Building Industry

AGENCY: Environmental Protection Agency (EPA).

ACTION: Notice.

SUMMARY: The Environmental Protection Agency (EPA) has submitted the following information collection request (ICR) to the Office of Management and Budget (OMB) for review and approval in accordance with the Paperwork Reduction Act (PRA): “Survey of the Public and Commercial Building Industry” and identified by EPA ICR No. 2494.01 and OMB Control No. 2070-NEW. The ICR, which is available in the docket along with other related materials, provides a detailed explanation of the collection activities and the burden estimate that is only briefly summarized in this document. EPA has addressed the comments received in response to the previously provided public review issued in the Federal Register on December 6, 2013 (78 FR 73520). With this submission, EPA is providing an additional 30 days for public review.

DATES: Comments may be received on or before August 29, 2014.

ADDRESSES: Submit your comments, identified by docket identification (ID) number EPA-HQ-OPPT-2013-0715, to both EPA and OMB as follows:

• To EPA online using http://www.regulations.gov (our preferred method) or by mail to: EPA Docket Center, Environmental Protection Agency, Mail Code 28221T, 1200 Pennsylvania Ave. NW., Washington, DC 20460.

• To OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Judith Brown, Economics, Exposure and Technology Division (7406M), Office of Pollution Prevention and Toxics, Environmental Protection Agency, 1200 Pennsylvania Ave. NW., Washington, DC 20460-0001; telephone number: (202) 564-3218; fax number: (202) 564-8893; email address: brown.judith@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, EPA West, Room 3334, 1301 Constitution Ave. NW., Washington, DC. The telephone number for the Docket Center is 202-566-1744. For additional information about EPA's public docket, visit http://www.epa.gov/dockets.

ICR status: This ICR is for a new information collection activity. Under the PRA, 44 U.S.C. 3501 et seq., an Agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: EPA has initiated a proceeding to investigate whether and what type of regulatory action might be appropriate to control exposures to lead dust resulting from renovation, repair, and painting (RRP) activities in public and commercial buildings (P&CBs). These proceedings have been described in previous Federal Register documents, entitled “Lead; Renovation, Repair, and Painting Program for Public and Commercial Buildings” (advance notice of proposed rulemaking) (75 FR 24848, May 6, 2010) (FRL-8823-6); “Lead; Renovation, Repair, and Painting Program for Public and Commercial Buildings; Request for Information and Advance Notice of Public Meeting” (77 FR 76996, December 31, 2012) (FRL-9373-7); and “Lead; Renovation, Repair, and Painting Program for Public and Commercial Buildings; Notice of Public Meeting and Reopening of Comment Period” (78 FR 27906, May 13, 2013) (FRL-9385-6). EPA plans to conduct a survey to collect information on: Building and activity patterns that may affect exposures to lead dust from RRP activities in P&CBs; the number of firms that perform RRP activities in P&CBs; the types and numbers of RRP activities that are performed; the extent to which various work practices are currently being used in RRP jobs in P&CBs; and the extent to which various work practices that help with the containment and cleanup of lead dust are currently being used in RRP jobs performed in P&CBs.

The information collected through the survey (along with information submitted to EPA in response to the previous Federal Register documents for this proceeding, as well as other data sources) will allow EPA to predict a baseline for the incidence of different types of RRP activities that disturb lead-based paint in P&CBs, the methods that are used to conduct these activities, the work practices that are used to contain and clean the resulting dust, and the characteristics of the buildings where the work is performed. EPA will use this information to estimate the resulting exposures to lead dust, which will inform Agency decisionmaking about the need for and scope of potential regulatory or other actions to reduce exposures to lead dust from RRP activities in P&CBs. If EPA determines that a regulation is needed, the Agency will use this data to assess the incremental benefits and costs of potential options to reduce such exposures. The information collected through the survey is necessary to inform Agency decisionmakers about the need for and scope of regulatory or other actions to protect against risks created by RRP activities disturbing lead-based paint in P&CBs.

Establishments will be selected using a stratified random sampling method. EPA plans to have a total of 402 respondents complete a questionnaire. The information collection will utilize separate questionnaires for contractors that perform RRP activities in P&CBs; lessors and managers of P&CBs that use their own staff to perform RRP activities; and building owners and occupants of P&CBs that use their own staff to perform RRP activities. The survey asks for readily available information, e.g., information known or easily accessible by respondents.

Respondents/Affected Entities: RRP contractors that work in P&CBs, lessors and managers of P&CBs, and owners and occupants of P&CBs.

Respondent's obligation to respond: Voluntary.

Estimated total number of potential respondents: 8,485.

Frequency of response: Once.

Estimated Total Burden: 564 hours. Burden is defined at 5 CFR 1320.3(b).

Estimated Total Annual Costs: $34,103. This includes an estimated burden cost of $34,103 and an estimated cost of $0 for capital investment or maintenance and operational costs.

Changes in Burden Estimates: This is a request for a new approval from OMB.

List of Subjects

Environmental protection, Reporting and recordkeeping requirements.

Spencer W. Clark,
Acting Director, Collection Strategies Division.

[FR Doc. 2014-17957 Filed 7-29-14; 8:45 am]

BILLING CODE 6560-50-P